DEPARTMENT OF THE INTERIOR

Fish and Wildlife Service

Preparation of an Environmental Impact Statement for an Amendment to the Incidental Take Permit for the San Bruno Mountain Habitat Conservation Plan, San Mateo County, CA

AGENCY: Fish and Wildlife Service, Interior.

ACTION: Notice of intent.

SUMMARY: Pursuant to the National Environmental Policy Act (NEPA), the U.S. Fish and Wildlife Service (Service) advises the public that we intend to gather information necessary to prepare, in coordination with the County of San Mateo (County), City of Brisbane (Brisbane), City of Daly City (Daly City), and City of South San Francisco (South San Francisco) (hereafter collectively referred to as the Permittees), a joint Environmental Impact Statement/Environmental Impact Report (EIS/EIR) on an amendment to the San Bruno Mountain Habitat Conservation Plan (Plan). Consistent with a consent decree and final judgment, these jurisdictions have requested an amendment to add four species to their incidental take permit (PRT 2-9818) originally issued on March 4, 1983 for the Plan. The Plan is being amended under section 10(a)(1)(B) of the Federal Endangered Species Act of 1973, as amended.

The Service provides this notice to: (1) Describe the proposed action and possible alternatives; (2) advise other Federal and State agencies, affected Tribes, and the public of our intent to prepare an EIS/EIR; (3) announce the initiation of a public scoping period; and (4) obtain suggestions and information on the scope of issues and alternatives to be included in the EIS/EIR.

DATES: Public meetings will be held on: Thursday, July 29, 2004 from 2:30 p.m. to 4:30 p.m.; and 6:30 p.m. to 8:30 p.m. The meetings will held in an informational and workshop format. Only written comments will be accepted. Written comments should be received on or before August 23, 2004.

ADDRESSES: The public meetings will be held at: Mission Blue Community Center, 475 Mission Blue Drive, Brisbane, California from 2:30 p.m. to 4:30 p.m.; and Brisbane Community Center, 250 Visitacion Avenue, ground floor, Brisbane, California from 6:30 p.m. to 8:30 p.m. Information, written comments, or questions related to the preparation of the EIS/EIR and NEPA process should be submitted to Lori Rinek, Chief, Conservation Planning and Recovery Division, U.S. Fish and Wildlife Service, Sacramento Fish and Wildlife Office, 2800 Cottage Way, W-2605, Sacramento, California 95825 (facsimile: 916-414-6713).

FOR FURTHER INFORMATION CONTACT: Craig Aubrey, Fish and Wildlife Biologist, or Lori Rinek, Chief, Conservation Planning and Recovery Division at the Sacramento Fish and Wildlife Office at (916) 414-6600.

SUPPLEMENTARY INFORMATION:

Reasonable Accommodation

Persons needing reasonable accommodations in order to attend and participate in the public meeting should contact Lori Rinek at (916) 414-6600 as soon as possible. In order to allow sufficient time to process requests, please call no later than 1 week before the public meeting. Information regarding this proposed action is available in alternative formats upon request.

Background

Section 9 of the Endangered Species Act (Act) (16 U.S.C. 1531 et seq.) and Federal regulations prohibit the “take” of a fish or wildlife species listed as endangered or threatened. Under the Act, the following activities are defined as take: harass, harm, pursue, hunt, shoot, wound, kill, trap, capture or collect listed animal species, or attempt to engage in such conduct (16 U.S.C. 1538). However, under section 10(a) of the Act, we may issue permits to authorize “incidental take” of listed species. “Incidental take” is defined by the Act as take that is incidental to, and not the purpose of, carrying out an otherwise lawful activity. Regulations governing permits for threatened species and endangered species, respectively, are at 50 CFR 17.32 and 50 CFR 17.22.

Take of listed plant species is not prohibited under the Act and cannot be authorized under a section 10 permit. We propose to include plant species on the permit in recognition of the conservation benefits provided for them under the Plan. These species would also receive no surprises assurances under the Service's “No Surprises” regulation that are then in effect.

The Service originally issued an incidental take permit (Permit PRT 2-9818) to the Permittees for the Plan on March 4, 1983. The permit authorized the incidental take of three federally endangered species: the San Bruno elfin butterfly (Callophrys mossii bayensis), the mission blue butterfly (Icaricia icarioides missionensis), and the San Francisco garter snake (Thamnophis sirtalis tetrataenia) and has since been amended on four occasions (although the number of species listed on the permit has remained constant). The Permittees intend to request that the amended permit include those species covered in the original incidental take permit, as well as the endangered callippe silverspot butterfly (Speyeria callippe callippe) and San Francisco lessingia (Lessingia germanorum germanorum), the threatened bay checkerspot butterfly (Euphydryas editha bayensis), and unlisted San Bruno Mountain manzanita (Arctostaphylos imbricata). Species may be added or deleted during the course of Plan development based on further analysis, new information, agency consultation, and public comment. The amended permit is needed to authorize take of listed animal species that could occur as a result of implementation activities covered under the Plan.

The Plan is being amended, in part, to comply with a January 6, 2003, consent decree and final judgement, which the Service agreed to amend the Plan by July 2005. Specifically, the Service agreed to consult, pursuant to section 7(a)(2) of the Act, on: (1) The impacts of the Plan on the endangered callippe silverspot, mission blue, and San Bruno elfin butterflies, and on critical habitat of the threatened bay checkerspot butterfly; (2) the Permittees' application for an amendment to the Plan; (3) the adequacy of existing Plan funding; (4) the adequacy of the Plan's minimization and mitigation measures; (5) the extent to which non-native species invasion is affecting the callippe silverspot, mission blue, and San Bruno elfin butterflies on the mountain; and (6) the extent to which management and restoration of conserved habitat on the mountain are being conducted according to the Plan. The amendment will also update the Plan so that it is consistent with Service regulations and policy, to include such “No Surprises” regulations as may then be in effect.

The Plan area comprises approximately 3,600 acres of land in northern San Mateo County, California. Most of San Bruno Mountain is unincorporated land, surrounded on all sides by the cities of Brisbane, Daly City, Colma, and South San Francisco. Topographically, the Mountain is made up of two ridges. The larger, main ridge or southeast ridge, reaches an elevation of slightly over 1,300 feet. The smaller ridge on the northeastern side of the Mountain reaches an average elevation of 840 feet.

Implementation activities that may be covered under the amended Plan include activities associated with commercial and residential development on planned and unplanned parcels in the Plan area, maintenance activities, and vegetation management on conserved lands. Maintenance activities covered in the Plan amendment may include those conducted by: the Pacific Gas & Electric Company on existing transmission and gas lines, the San Francisco Water Department on existing water lines, the San Mateo County Department of Public Works and Department of Parks and Recreation for existing road and other facilities, and the California Department of Forestry for maintaining established fire breaks on the Mountain. Habitat maintenance and management activities covered under the amended Plan may include hand and mechanical removal of invasive plants, herbicide treatments, prescribed burning, and grazing. Under the amended Plan, the effects on covered species of the covered activities are expected to be minimized and mitigated through participation in a conservation program, which will be fully described in the amended Plan. This conservation program would focus on providing long-term protection of covered species by protecting biological communities in the Plan area.

Components of this conservation program are now under consideration by the Service and the Permittees. These components will likely include avoidance and minimization measures, monitoring, adaptive management, and mitigation measures consisting of preservation, restoration, and enhancement of habitat.

Environmental Impact Statement/Environmental Impact Report

The Permittees, the Service, and the County of San Mateo have selected Jones & Stokes, Associates to prepare the Draft EIS/EIR. The joint document will be prepared in compliance with NEPA and the California Environmental Quality Act. Although Jones & Stokes will prepare the EIS/EIR, the Service will be responsible for the scope and content of the document for NEPA purposes, and the County of San Mateo will be responsible for the scope and content of the EIR.

The EIS/EIR will consider the proposed action (i.e., the issuance of a section 10(a)(1)(B) permit under the Act), and a reasonable range of alternatives. A detailed description of the proposed action and alternatives will be included in the EIS/EIR. It is anticipated that several alternatives will be developed, which may vary by the level of conservation, impacts caused by the proposed activities, permit area, covered species, or a combination of these factors. Additionally, a No Action alternative will be considered. Under the No Action alternative, the Service would not issue a section 10(a)(1)(B) permit.

The EIS/EIR will also identify potentially significant impacts on biological resources, land use, air quality, water quality, mineral resources, water resources, economics, and other environmental issues that could occur directly or indirectly with implementation of the proposed action and alternatives. For all potentially significant impacts, the EIS/EIR will identify mitigation measures where feasible to reduce these impacts to a level below significance.

Environmental review of the EIS/EIR will be conducted in accordance with the requirements of NEPA (42 U.S.C. 4321 et seq.), its implementing regulations (40 CFR 1500-1508), other applicable regulations, and Service procedures for compliance with those regulations. This notice is being furnished in accordance with 40 CFR 1501.7 of NEPA to obtain suggestions and information from other agencies and the public on the scope of issues and alternatives to be addressed in the EIS/EIR. The primary purpose of the scoping process is to identify important issues raised by the public, related to the proposed action. Written comments from interested parties are invited to ensure that the full range of issues related to the permit amendment request are identified. You may submit written comments by mail or facsimile transmission (see ADDRESSES). All comments received, including names and addresses, will become part of the official administrative record and may be made available to the public.

Dated: July 16, 2004.
Vicki L. Campbell,
Acting Deputy Manager, California/Nevada Operations Office, Region 1, U.S. Fish and Wildlife Service.

[FR Doc. 04-16663 Filed 7-21-04; 8:45 am]

BILLING CODE 4310-55-P